DEPARTMENT OF LABOR

Mine Safety and Health Administration

Petitions for Modification

The following parties have filed petitions to modify the application of existing safety standards under section 101(c) of the Federal Mine Safety and Health Act of 1977.

1. Perry County Coal Corporation

[Docket No. M-2006-009-C]

Perry County Coal Corporation, 1845 S. KY Hwy.15, Hazard, Kentucky 41701 has filed a petition to modify the application of 30 CFR 75.364(a)(2) (Weekly examination) to its HZ4-1 Mine (MSHA I.D. No. 15-02085) located in Perry County, Kentucky. The petitioner requests a modification of the existing standard to permit approved check points 5 and 5A to be relocated in the neutral entry on the Southwest Mains, and add check points 5B, 5C, 5D, 5E, 5F, 5G, 5H, 5I, 5J, 5K, 5L, 5M, and 5N which will be located in the neutral entry in the Southwest Mains, due to hazardous roof and rib conditions. The petitioner has listed specific procedures in this petition that will be followed when the proposed alternative method is implemented. The petitioner asserts that the proposed alternative method would provide at least the same measure of protection as the existing standard.

2. Six M. Coal Company

[Docket No. M-2006-010-C]

Six M Coal Company, 647 South Street, Lykens, Pennsylvania 17048 has filed a petition to modify the application of paragraph (b) of 30 CFR 49.2 (Availability of mine rescue teams) to its No. 1 Slope Mine (MSHA I.D. No. 36-09138) located in Dauphin County, Pennsylvania. The petitioner requests a modification of the existing standard to permit the use of reduction of two mine rescue teams with three members with one alternative for either team in lieu of two mine rescue teams with five members and one alternate each team. The petitioner asserts that to utilize five or more rescue team members in the mine's confined working places would result in a diminution of safety to both the miners at the mine and members of the rescue team, and that the proposed alternative method would provide at least the same measure of protection as the existing standard.

3. Six M. Coal Company

[Docket No.M-2006-011-C]

Six M Coal Company, 647 South Street, Lykens, Pennsylvania 17048 has filed a petition to modify the application of 30 CFR 75.1202 and 1202-1(a) (Temporary notations, revisions, and supplements) to its No. 1 Slope Mine (MSHA I.D. No. 36-09138) located in Dauphin County, Pennsylvania. The petitioner proposes to revise and supplement mine maps annually instead of every 6 months as required, and to update maps daily by hand notations. The petitioner also proposes to conduct surveys prior to commencing retreat mining and whenever either a drilling program under 30 CFR 75.388 or plan for mining into inaccessible areas under 30 CFR 75.389 is required. The petitioner asserts that the proposed alternative method would provide at least the same measure of protection as the existing standard.

4. Twentymile Coal Company

[Docket No. M-2006-012-C]

Twentymile Coal Company, Gateway Center, Suite 1340, 401 Liberty Avenue, Pittsburgh, Pennsylvania 15222 has filed a petition to modify the application of 30 CFR 75.362(d)(2) (On-shift examination) to its Foidel Creek Mine (MSHA I.D. No. 05-03836) located in Routt County, Colorado. The petitioner requests a modification of the existing standard to permit an alternative method of compliance to the taking of methane tests by means of an extendable probe. The petitioner proposes the following for use when equipment is operated inby the last open crosscut such as, but not limited to, spot roof-bolting and cleanup activities with a scoop or other mining equipment: (i) In working places before a continuous miner is taken into the place or energized, methane tests will be taken at the face from under permanent roof support or when such test is not appropriate because the last row of permanent roof support or when such test is not appropriate because the last row of permanent support is sufficiently back from the face, using a probe with a maximum extension of 16 feet inby the second row of supports. If the probe is used, a methane test will be taken with an on-board methane detection system which draws a sample from the face to be performed once the miner is trammed to a location beyond supported roof; (ii) in working places before a roof bolter, scoop or other equipment is taken into the place or energized inby the last open crosscut but outby the last row of bolts, before the equipment it taken into the place or energized, methane tests will at the face from under permanent roof support or when such test is not appropriate because the last row of permanent support is sufficiently back from the face, using a probe 16 feet inby the second row of bolts. The methane tests at the last row of permanent roof supports will be taken every 20 minutes with the equipment as energized unless the equipment is inby the face ventilation device. If so, a probe will be used to check for methane 16 feet inby the second row of bolts; and (iii) in working places before a roof bolter is taken into the place or energized inby the last open crosscut and inby the last row of bolts, before the equipment is taken into the place or energized, methane tests will be taken at the face from under permanent roof support, or when such test is not appropriate because the last row of permanent support is sufficiently back from the face using a probe that extends 16 feet inby the second row of bolts, and a machine-mounted methane monitor will be installed on the roof bolter using the specific procedures listed in the this petition. The petitioner asserts that the proposed alternative method would provide at least the same measure of protection as the existing standard.

5. Twentymile Coal Company

[Docket No. M-2006-013-C]

Twentymile Coal Company, Gateway Center, Suite 1340, 401 Liberty Avenue, Pittsburgh, Pennsylvania 15222 has filed a petition to modify the application of 30 CFR 75.362(a)(2) (On-shift examination) to its Foidel Creek Mine (MSHA I.D. No. 05-03836) located in Routt County, Colorado. The petitioner requests a modification of the existing standard to permit an alternative method of compliance for examining of dust control parameters. The petitioner proposes to have a certified person conduct the examination as required in 30 CFR 75.362(a)(2). The certified persons will have readily available to them pressure gauges and similar devices that are useful in conducting the examinations. The examinations will be conducted on the shift prior to the first production shift within three hours of the end of the shift by experienced personnel qualified to perform such examinations, and any potential hazards will be identified. The petitioner asserts that the proposed alternative method would provide at least the same measure of protection as the existing standard.

6. Twentymile Coal Company

[Docket No. M-2006-014-C]

Twentymile Coal Company, Gateway Center, Suite 1340, 401 Liberty Avenue, Pittsburgh, Pennsylvania 15222 has filed a petition to modify the application of 30 CFR 75.1902(c) (Underground diesel fuel storage-general requirements) to its Foidel Creek Mine (MSHA I.D. No. 05-03836) located in Routt County, Colorado. The petitioner requests a modification of the existing standard to permit the use of additional temporary underground diesel fuel storage areas. The petitioner proposes to utilize additional temporary underground diesel fuel storage areas, particularly, but not limited to, so that it can perform work in its tailgate such as removing belt structure, installing seals, and rock dusting. The petitioner states that the temporary fuel storage will be equipped with an automatic fire suppression system; a carbon monoxide sensor will be installed immediately downwind from the station which will be linked to the mine-wide atmospheric monitoring system; the temporary fuel storage area will be located in an area of the mine in a separate split of air from any active working sections; and the temporary fuel storage area will be vented to the return. The petitioner further states that the location of the storage area will have access to two separate and distinct escapeways, one of which contains intake air and will be either in the entry where the fuel storage area is located, or one crosscut inby or outby the area through an open crosscut, a man-door, or equipment door. The petitioner has listed additional specific procedures in this petition that will be followed when the proposed alternative method is implemented. The petitioner asserts that the proposed alternative method would provide at least the same measure of protection as the existing standard.

7. Twentymile Coal Company

[Docket No. M-2006-015-C]

Twentymile Coal Company, Gateway Center, Suite 1340, 401 Liberty Avenue, Pittsburgh, Pennsylvania 15222 has filed a petition to modify the application of 30 CFR 75.324 (Intentional changes in the ventilation system) to its Foidel Creek Mine (MSHA I.D. No. 05-03836) located in Routt County, Colorado. The petitioner requests a modification of the existing standard to permit the temporary reversal of the air in the belt entry during non-production work in the belt entry, or because of the necessity of emergency access for belt breakage, coal spillage, or roof conditions that require access without having to remove persons from the mine or de-energize power for the affected area. The petitioner has listed specific procedures in this petition that will be followed when the proposed alternative method is implemented. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before June 16, 2006.

Copies of these petitions are available for inspection at that address.

Dated at Arlington, Virginia this 10th day of May 2006.
Patricia W. Silvey,
Acting Director, Office of Standards, Regulations, and Variances.

[FR Doc. E6-7469 Filed 5-16-06; 8:45 am]

BILLING CODE 4510-43-P